DEPARTMENT OF COMMERCE

Foreign-Trade Zones Board

[B-7-2016]

Authorization of Production Activity, Foreign-Trade Zone 134, Volkswagen Group of America Chattanooga Operations, LLC (Passenger Motor Vehicles), Chattanooga, Tennessee

On February 10, 2016, the Chattanooga Chamber Foundation, grantee of FTZ 134, submitted a notification of proposed production activity to the Foreign-Trade Zones (FTZ) Board on behalf of Volkswagen Group of America Chattanooga Operations, LLC, within FTZ 134, in Chattanooga, Tennessee.

The notification was processed in accordance with the regulations of the FTZ Board (15 CFR part 400), including notice in the Federal Register inviting public comment (81 FR 8682, February 22, 2016). The FTZ Board has determined that no further review of the activity is warranted at this time. The production activity described in the notification is authorized, subject to the FTZ Act and the FTZ Board's regulations, including Section 400.14.

Dated: June 9, 2016.
Elizabeth Whiteman,
Acting Executive Secretary.

[FR Doc. 2016-14299 Filed 6-16-16; 8:45 am]

BILLING CODE 3510-DS-P